ENVIRONMENTAL PROTECTION AGENCY

[ER-FRL-8589-9]

Environmental Impact Statements; Notice of Availability

Responsible Agency: Office of Federal Activities, General Information (202) 564-1399 or http://www.epa.gov/compliance/nepa/.

Weekly receipt of Environmental Impact Statements

Filed 01/19/2009 Through 01/23/2009

Pursuant to 40 CFR 1506.9.

EIS No. 20090016, Final EIS, FAA, MA, New Bedford Regional Airport Improvements Project, To Enhance Aviation Capacity, Air Traffic, Jet Traffic, Air Cargo and General Aviation Traffic, Southeastern Massachusetts Region, City of New Bedford, Bristol County, MA, Wait Period Ends: 03/02/2009, Contact: Michelle Ricci 781-238-7631.

EIS No. 20090017, Draft EIS, USN, GU, Mariana Islands Range Complex (MIRC), To Address Ongoing and Proposed Military Training Activities, Mariana Islands, GU, Comment Period Ends: 03/16/2009, Contact: Nora Macariola-See 808-472-1402.

EIS No. 20090018, Draft EIS, AFS, ID, Lakeview-Reeder Fuels Reduction Project, Proposed Fuels Reduction and Road Treatment Activities, Idaho Panhandle National Forests, Priest Lake Ranger District, Bonner County, ID, Comment Period Ends: 03/16/2009, Contact: David Cobb 208-443-2512.

EIS No. 20090019, Final EIS, FHW, 00, Interstate 74 Quad Cities Corridor Study, Improvements to the I-74 between 23rd Avenue in Moline, IL and 53rd Street in Davenport, IA, NPDES, Rivers and Harbors Act Section 9 and US Army COE Section 404 Permits, Scott County, IA and Rock Island County, IL, Wait Period Ends: 03/16/2009, Contact: Philip Barnes 515-233-7300.

EIS No. 20090020, Final EIS, AFS, WV, Lower Williams Project Area (LWPA), Alternative 6 is the Preferred Alternative, Proposed to Perform Vegetation Management and Wildlife Habitat Improvements, Implementation, Gauley Ranger District, Monongahela National Forest, Webster County, WV, Wait Period Ends: 03/02/2009, Contact: David Ede 304-636-1800 Ext. 233.

EIS No. 20090021, Draft EIS, AFS, CA, Inyo National Forest Motorized Travel Management Project, Implementation, Inyo, Mineral, Mono and Esmeralda Counties, CA, Comment Period Ends: 03/30/2009, Contact: Susan Joyce 760-873-2516.

EIS No. 20090022, Final EIS, AFS, WY, Off-Highway Vehicle (OHV) Route Designation Project, Proposing to Improve Management of Public Summer Motorized Use (May 1-November 30) by Designating Roads and Motorized Trails, Bridger-Teton National Forest, Buffalo, Jackson and Big Piney Ranger Districts, Teton, Lincoln and Sublette Counties, WY, Wait Period Ends: 03/02/2009, Contact: Linda Merigliano 307-739-5400.

EIS No. 20090023, Draft EIS, AFS, CA, Sequoia National Forest Motorized Travel Management Project, Prohibit Cross-Country Travel for Managing Motorized Travel, Kern River, Western Divide Ranger Districts, Sequoia National Forest, Tulare County, CA , Comment Period Ends: 03/31/2009, Contact: Barbara Johnston 559-784-1500 Ext. 1220.

EIS No. 20090024, Draft EIS, FHW, MO, Interstate 70 Corridor Improvements, Kansas City to St. Louis, Updated Information, Evaluates if a Truck-Only Lane Strategy is Viable, Kansas City to St. Louis, MO, Comment Period Ends: 03/16/2009, Contact: Peggy Casey 573-636-7104.

EIS No. 20090025, Draft EIS, IBR, CA, Grassland Bypass Project 2010-2019 Project, Proposed new Use Agreement, San Joaquin River, CA, Comment Period Ends: 03/30/2009, Contact: Judi Tapia 559-487-5138.

EIS No. 20090026, Draft EIS, FTA, CO, East Corridor Project, Proposes Commuter Rail Transit from downtown Denver to International Airport (DIA), Denver, Adams, Arapahoe, Jefferson and Douglas Counties, CO, Comment Period Ends: 03/16/2009, Contact: Anthony Joseph Ossi, Jr. 202-366-1613.

Amended Notices

EIS No. 20090001, Draft EIS, FHW, IA, Southeast (SE) Connector in Des Moines, Iowa, To Provide a Safe and Efficient Link between the MLK Jr. Parkway at SE 14th Street to the U.S. 65 Bypass, Funding, U.S. Army COE Section 404 and NPDES Permits, Polk County, IA, Comment Period Ends: 03/02/2009, Contact: Philip Barnes 515-233-7300. Revision to FR Notice Published 1/16/2009: Correction to Status from Final to Draft.

EIS No. 20090010, Draft EIS, USN, WA—VOIDED—Swimmer Interdiction Security System (SISS) Project, Construction and Operation, Naval Bas Kitsap—Bangor, Silverdale, Kitsap County, WA, Comment Period Ends: 03/09/2009, Contact: Shannon Kasa 619-553-3889. This DEIS was inadvertently refilled and published in 01/23/2009 FR, the Correct DEIS # 20080531 was published on 12/29/2008.

EIS No. 20090012, Final EIS, NOA, 00, Proposed Acceptable Biological Catch (ABC) and Optimum Yield (OY) Specifications and Management Measures for the 2009-2010 Pacific Coast Groundfish Fishery Management Plan, Implementation, WA, OR and CA, Wait Period Ends: 02/23/2009, Contact: Barry Thom 503-231-6266. Revision to FR Notice Published 01/23/2009: Correction to Contact Person Name and Telephone.

EIS No. 20090014, Final EIS, NOA, OR, Bull Run Water Supply Habitat Conservation Plan, Application for and Incidental Take Permit to cover the Continued Operation and Maintenance, Sandy River Basin, City of Portland, OR, Wait Period Ends: 02/23/2009, Contact: Barry Thom, 503-231-6266 503-231-6266. Revision to FR Notice Published 01/23/2009: Correction to Contact Person Name and Telephone.

Dated: 01/27/2009.
Robert W. Hargrove,
Director, NEPA Compliance Division, Office of Federal Activities.

[FR Doc. E9-2041 Filed 1-29-09; 8:45 am]

BILLING CODE 6560-50-P